FEDERAL COMMUNICATIONS COMMISSION

[OMB 3060-0474; FR ID 284333]

Information Collection Being Reviewed by the Federal Communications Commission Under Delegated Authority

AGENCY: Federal Communications Commission.

ACTION: Notice and request for comments.

SUMMARY: As part of its continuing effort to reduce paperwork burdens, and as required by the Paperwork Reduction Act (PRA), the Federal Communications Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid Office of Management and Budget (OMB) control number. No person shall be subject to any penalty for failing to comply with a collection of information subject to the PRA that does not display a valid OMB control number.

DATES: Written comments should be submitted on or before May 12, 2025. If you anticipate that you will be submitting comments but find it difficult to do so within the time period allowed by this notice, you should advise the contacts below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION:

OMB Control Number: 3060-0474.

Title: Section 74.1263, Time of Operation.

Form Number: N/A.

Type of Review: Extension of a currently approved collection.

Respondents: Business and other for profit entities; not-for-profit institutions.

Number of Respondents and Responses: 110 respondents; 110 responses.

Estimated Time per Response: 0.5 hours.

Frequency of Response: On occasion reporting requirement.

Obligation to Respond: Statutory authority for this collection of information collection is contained in Sections 154(i), 303 and 308 of the Communications Act of 1934, as amended.

Total Annual Burden: 55 hours.

Total Annual Costs: None.

Needs and Uses: The information collection requirements contained in 47 CFR 74.1263(c) require a licensee of an FM translator or booster station to notify the Commission of its intent to discontinue operations for 30 or more consecutive days. In addition, a licensee must notify the Commission within 48 hours of the station's return to operation. The information collection requirements contained in 47 CFR 74.1263(d) require an FM translator or booster station licensee to notify the Commission of its intent to discontinue operations permanently and to forward the station license to the FCC for cancellation.

Federal Communications Commission.
Marlene Dortch,
Secretary.

[FR Doc. 2025-04014 Filed 3-12-25; 8:45 am]

BILLING CODE 6712-01-P